DEPARTMENT OF THE INTERIOR

Fish and Wildlife Service

[FWS-R2-ES-2014-N163] [FXES11130200000-145-FF02ENEH00]

Receipt of Incidental Take Permit Applications for Transfer of Permits

AGENCY: Fish and Wildlife Service, Interior.

ACTION: Notice of receipt of applications; request for public comment.

SUMMARY: We, the U.S. Fish and Wildlife Service, have received two applications for transfer of permits associated with two habitat conservation plans issued under the Endangered Species Act (Act). The new landowners have agreed to assume the responsibilities of, and to be bound by, the terms and conditions of the original permits. We intend to transfer these permits as long as the applicants meet issuance criteria under the Act and all other requirements for holding a permit.

DATES: To ensure consideration, written comments on the transfer of permits must be received on or before September 22, 2014.

ADDRESSES: You may obtain copies of these applications and submit comments by one of the following methods. Please refer to the respective permit number for each application when requesting documents or submitting comments. You may also request copies of the habitat conservation plans and environmental assessments on the Web site ecos.fws.gov, but we are not accepting comments on these final, approved documents.

• U.S. Mail: U.S. Fish and Wildlife Service, Division of Endangered Species—HCP Permits, P.O. Box 1306, Room 6034, Albuquerque, NM 87103.

• Electronically: fw2_hcp_permits@fws.gov.

FOR FURTHER INFORMATION CONTACT: Marty Tuegel, Branch Chief, Environmental Review, P.O. Box 1306, Room 6034, Albuquerque, NM 87103; 505-248-6651.

SUPPLEMENTARY INFORMATION: Under the National Environmental Policy Act of 1969 (NEPA; 42 U.S.C. 4321 et seq.), this notice advises the public that we, the U.S. Fish and Wildlife Service (Service), have analyzed the impacts to the human environment related to the transfer of incidental take permits (ITPs) under section 10(a)(1)(B) of the Endangered Species Act (ESA; 16 U.S.C. 1531 et seq.) to applicants who agree to fully implement the respective approved habitat conservation plans (HCPs) and be bound by the conditions in the original permits associated with those HCPs.

Applications Available for Review

Please refer to the appropriate permit number (e.g., Permit No. TE-123456) when requesting application documents and when submitting comments. Applications and other information the applicants have submitted is available for review, subject to the requirements of the Privacy Act (5 U.S.C. 552a) and Freedom of Information Act (5 U.S.C. 552).

Original environmental assessments (EAs)/HCPs are available for review at ecos.fws.gov. However, we are not accepting comments on these final approved documents.

Permit TE-024619

Applicant: Solidago, Austin, TX.

Applicant requests transfer of the permit issued to The Crossings on July 27, 2000, for incidental take of the endangered golden-cheeked warbler (Setophaga [=Dendroica] chrysoparia) associated with the Environmental Assessment and Habitat Conservation Plan for Issuance of an Endangered Species Act Section 10(a)(1)(B) Permit for the Incidental Take of the Golden-cheeked Warbler during Construction and Operation of a Mixed-use Development on a Portion of the Crossings Property, Austin, Travis County, Texas.

Permit TE-005497

Applicant: Kendel Martin, Austin, TX.

Applicant requests transfer of the permit issued to Ralph J. Lake, Jr. (originally issued to Mark A. and Brenda J. Hogan—February 26, 1999, and transferred to Ralph Lake, Jr., on February 21, 2006) for incidental take of the endangered golden-cheeked warbler (Setophaga [=Dendroica] chrysoparia) associated with the Environmental Assessment/Habitat Conservation Plan for Issuance of an Endangered Species Section 10(a)(1)(B) Permit for the Incidental Take of the Golden-cheeked Warbler during Construction of a Single Family Residence on 10.117 acres (Tax parcel ID 013427) on City Park Road, Travis County, Texas. A conservation easement on the balance of the property guarantees preservation of habitat for the golden-cheeked warbler in perpetuity.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act (16 U.S.C. 1531 et seq.) and its implementing regulations (50 CFR 17.22) and NEPA (42 U.S.C. 4321 et seq.) and its implementing regulations (40 CFR 1506.6).

Dated: August 5, 2014.
Joy E. Nicholopoulos,
Acting Regional Director, Southwest Region.

[FR Doc. 2014-19796 Filed 8-20-14; 8:45 am]

BILLING CODE 4310-55-P